DEPARTMENT OF HOMELAND SECURITY

Federal Emergency Management Agency

[Docket ID: FEMA-2021-0033; OMB No. 1660-0145]

Agency Information Collection Activities: Submission for OMB Review; Comment Request; Federal Emergency Management Agency Programs Customer Satisfaction Surveys

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use. This notice seeks comments concerning the collection of Individual Assistance customer satisfaction survey responses for FEMA programs and information for assessment to improve the delivery of disaster assistance to individuals and households.

DATES: Comments must be submitted on or before May 31, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Brandi Vironda, Statistician, Customer Survey & Analysis Section, Recovery Directorate, FEMA at Brandi.Vironda@fema.dhs.gov or 940-891-8572.

SUPPLEMENTARY INFORMATION: This collection is in accordance with Executive Orders 12862 and 13571 requiring all Federal Agencies to survey customers to determine the kind and quality of services they want and their level of satisfaction with existing services. The Government Performance and Results Act (GPRA) (Pub. L. 103-62, 107 Stat. 285) requires agencies to set missions and goals and measure performance against them. In addition, the GPRA Modernization Act of 2010 (Pub. L. 111-352, 124 Stat. 3866) requires quarterly performance assessments of government programs for the purposes of assessing agency performance and improvement. FEMA will fulfill these requirements by collecting customer satisfaction program information through surveys of the Recovery Directorate's external customers.

Two forms are being removed from this filing—Shelter and Temporary Essential Power Survey (519-0-50) and Shelter and Temporary Essential Power Survey (519-0-51).

This proposed information collection previously published in the Federal Register on February 16, 2022, at 87 FR 8861 with a 60-day public comment period. No comments were received. The purpose of this notice is to notify the public that FEMA will submit the information collection abstracted below to the Office of Management and Budget for review and clearance.

Collection of Information

Title: Federal Emergency Management Agency Programs Customer Satisfaction Surveys.

Type of Information Collection: Revision of a currently approved information collection.

OMB Number: 1660-0145.

FEMA Forms: FEMA Form FF-104-FY-21-181 (formerly 519-0-45), Preparedness Survey—Electronic; FEMA Form FF-104-FY-21-180 (519-0-44), Preparedness Survey—Phone; FEMA Form FF-104-FY-21-183 (519-0-47), Transitional Sheltering Assistance (TSA) Survey—Electronic; FEMA Form FF-104-FY-21-182 (519-0-46), Transitional Sheltering Assistance (TSA) Survey—Phone; FEMA FF-104-FY-21-185 (Form 519-0-49), Temporary Housing Units (THU) Survey—Electronic; FEMA Form FF-104-FY-21-184 (519-0-48), Temporary Housing Units (THU) Survey—Phone; FEMA Form FF-104-FY-21-196, Sample Focus Group Moderator Guide; FEMA Form FF-104-FY-21-197, Sample One-on-One Interview Guide; FEMA Form FF-104-FY-21-198, Sample On-line Moderator Guide.

Abstract: Federal agencies are required to survey their customers to determine the kind and quality of services customers want and their level of satisfaction with those services. Analysis from the survey is used to measure FEMA's Strategic Plan's objective 3.1 to streamline the disaster survivor experience.

Affected Public: Individuals and households; Partners In Service Staff.

Estimated Number of Respondents: 7,296.

Estimated Number of Responses: 7,296.

Estimated Total Annual Burden Hours: 5,227.

Estimated Total Annual Respondent Cost: $212,267.

Estimated Respondents' Operation and Maintenance Costs: $0.

Estimated Respondents' Capital and Start-Up Costs: $33,696.

Estimated Total Annual Cost to the Federal Government: $724,191.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-09223 Filed 4-28-22; 8:45 am]

BILLING CODE 9111-24-P